DEPARTMENT OF JUSTICE

Notice of Lodging of Proposed Modification to Consent Decree Under the Resource Conservation and Recovery Act

Notice is hereby given that on April 26, 2011, a proposed First Modification to the Consent Decree previously entered in United States et al. v. HPI Products, Inc., et al., No. 08-06133 (W.D. Mo.) was filed with the United States District Court for the Western District of Missouri. The proposed First Modification extends the deadlines for Defendant HPI to make its first civil penalty payment and to submit certain environmental reports to the United States Environmental Protection Agency.

The Department of Justice will receive comments relating to the proposed First Modification for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. HPI Products, Inc., et al., DJ Ref. No. 90-5-1-1-09338.

The proposed First Modification may be examined at the Environmental Protection Agency, Region 7, 901 N. 5th St., Kansas City, KS 66101. During the public comment period, the proposed First Modification may also be examined on the following Department of Justice Web site, http://www.justice.gov/enrd/Consent_Decrees.html. A copy of the proposed First Modification may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $2.50 (25 cents per page reproduction cost) payable to the U.S. Treasury.

Robert E. Maher, Jr.,
Assistant Section Chief, Environmental Enforcement Section, Environment and Natural Resources Division.

[FR Doc. 2011-11842 Filed 5-13-11; 8:45 am]

BILLING CODE 4410-15-P